DEPARTMENT OF TRANSPORTATION

Federal Aviation Administration

14 CFR Part 145

[Docket No. FAA-2006-26408]

RIN 2120-AI53

Repair Stations; Extension of Comment Period

AGENCY: Federal Aviation Administration (FAA), DOT.

ACTION: Notice of proposed rulemaking (NPRM); extension of comment period.

SUMMARY: This action extends the comment period for the Repair Stations NPRM, Docket No. FAA-2006-26408 that was published on December 1, 2006. In that document, the FAA proposed to amend the regulations for repair stations by revising the system of ratings and requiring repair stations to establish a quality program. The FAA also proposed additional changes critical to maintaining safety. On January 26, 2007, the Aeronautical Repair Station Association (ARSA) requested an extension to the comment period for this NPRM. The FAA has considered this request and decided to extend the comment period for 45 days.

DATES: Comments must be received on or before April 16, 2007.

ADDRESSES: You may send comments, identified by Docket Number FAA-2006-26408, using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: George W. Bean, General Aviation and Repair Station Branch, AFS-340, Federal Aviation Administration, 800 Independence Avenue, SW., Washington, DC 20591; telephone: (202) 267-3109; facsimile: (202) 267-5115 or e-mail: George.W.Bean@faa.gov.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the Web address in the ADDRESSES section.

Privacy Act: Using the search function of our docket Web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Before acting on this proposal, we will consider all comments we receive on or before the closing date for comments. We will consider comments filed late if it is possible to do so without incurring expense or delay. We may change this proposal in light of the comments we receive.

If you want the FAA to acknowledge receipt of your comments on this proposal, include with your comments a pre-addressed, stamped postcard on which the docket number appears. We will stamp the date on the postcard and mail it to you.

Availability of Rulemaking Documents

You can get an electronic copy using the Internet by:

(1) Searching the Department of Transportation's electronic Docket Management System (DMS) Web page (http://dms.dot.gov/search);

(2) Visiting the Office of Rulemaking's Web page at http://www.faa.gov/avr/arm/index.cfm; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

Proprietary or Confidential Business Information

Do not file in the docket information that you consider to be proprietary or confidential business information. Send or deliver this information directly to the person identified in the FOR FURTHER INFORMATION CONTACT section of this document. You must mark the information that you consider proprietary or confidential. If you send the information on a disk or CD ROM, mark the outside of the disk or CD ROM and also identify electronically within the disk or CD ROM the specific information that is proprietary or confidential.

Under 14 CFR 11.35(b), when we are aware of proprietary information filed with a comment, we do not place it in the docket. We hold it in a separate file to which the public does not have access, and place a note in the docket that we have received it. If we receive a request to examine or copy this information, we treat it as any other request under the Freedom of Information Act (5 U.S.C. 552). We process such a request under the DOT procedures found in 49 CFR part 7.

Background

On December 1, 2006, the Federal Aviation Administration (FAA) issued Notice of Proposed Rulemaking (NPRM) Repair Stations (71 FR 70254, 12/01/2006). In that document, the FAA proposed to amend the regulations for repair stations by revising the system of ratings and requiring repair stations to establish a quality program. The FAA also proposed additional changes critical to maintaining safety. Comments to that document were to be received on or before March 1, 2007.

By letter dated January 26, 2007, the Aeronautical Repair Station Association (ARSA) requested that the FAA extend the comment period for NPRM Repair Stations until June 1, 2007. ARSA represents international organizations involved in designing, producing, operating, and maintaining civil aviation products. The association is mainly made up of repair stations certificated under 14 CFR part 145. Their members will be directly and significantly impacted by the changes proposed in this rulemaking. ARSA requested an extension of the comment period by 90 days to provide sufficient time to collect and compile comments from its membership before submitting those comments to the FAA.

While the FAA concurs with the ARSA's request for an extension of the comment period on the Repair Stations NPRM, the FAA believes that a 90-day extension would be excessive. As the Repair Stations NPRM is lengthy, the FAA provided a 90-day comment period. Although the FAA agrees that additional time for comments may be needed by repair stations that would be affected by the proposal, this need must be balanced against the need to proceed expeditiously with this rulemaking. The FAA believes an additional 45 days would be adequate for ARSA to collect and compile comments from its membership and to provide meaningful comment on the Repair Stations NPRM to the FAA. This will also allow commenters who may have anticipated an extension in the comment period to submit their comments by a certain date. Absent unusual circumstances, the FAA does not anticipate any further extension of the comment period for this rulemaking.

Extension of Comment Period

In accordance with § 11.47(c) of Title 14, Code of Federal Regulations, the FAA has reviewed the request made by ARSA for extension of the comment period to the Repair Stations, NPRM. ARSA has shown a substantive interest in the proposed rule and presented good cause for the extension. The FAA also has determined that extension of the comment period is consistent with the public interest, and that good cause exists for taking this action.

Accordingly, the comment period for the Repair Stations, NPRM, Docket No. FAA-2006-26408, is extended until April 16, 2007.

Issued in Washington, DC, February 20, 2007.
James J. Ballough,
Director, Flight Standards Service, Aviation Safety.

[FR Doc. E7-3331 Filed 2-26-07; 8:45 am]

BILLING CODE 4910-13-P